DEPARTMENT OF ENERGY

Federal Energy Regulatory Commission

[Docket No. IC16-10-000]

Commission Information Collection Activities (FERC Form 80, FERC-550, and FERC-549); Consolidated Comment Request; Extension

AGENCY: Federal Energy Regulatory Commission, DOE.

ACTION: Notice of information collections and request for comments.

SUMMARY: In compliance with the requirements of the Paperwork Reduction Act of 1995, the Federal Energy Regulatory Commission (Commission or FERC) is soliciting public comment on the requirements and burden ¹ of the information collections described below.

¹ The Commission defines burden as the total time, effort, or financial resources expended by persons to generate, maintain, retain, or disclose or provide information to or for a Federal agency. For further explanation of what is included in the information collection burden, reference 5 Code of Federal Regulations 1320.3.

DATES: Comments on the collections of information are due July 25, 2016.

ADDRESSES: You may submit comments (identified by Docket No. IC16-10-000) by either of the following methods:

• eFiling at Commission's Web site: http://www.ferc.gov/docs-filing/efiling.asp.

• Mail/Hand Delivery/Courier: Federal Energy Regulatory Commission, Secretary of the Commission, 888 First Street NE., Washington, DC 20426. Please reference the specific collection number and/or title in your comments.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC Form 80, [Licensed Hydropower Development Recreation Report]

OMB Control No.: 1902-0106.

Abstract: FERC uses the information on the FERC Form 80 (also known as “FERC-80,”) to implement the statutory provisions of sections 4(a), 10(a), 301(a), 304 and 309 of the Federal Power Act (FPA), 16 U.S.C. 797, 803, 825c & 8254. FERC's authority to collect this information comes from section 10(a) of the FPA which requires the Commission to be responsible for ensuring that hydro projects subject to FERC jurisdiction are consistent with the comprehensive development of the nation's waterway for recreation and other beneficial public uses. In the interest of fulfilling these objectives, FERC expects licensees subject to its jurisdiction to recognize the resources that are affected by their activities and to play a role in protecting such resources.

FERC Form 80 is a report on the use and development of recreational facilities at hydropower projects licensed by the Commission. Applications for amendments to licenses and/or changes in land rights frequently involve changes in resources available for recreation. FERC utilizes the FERC Form 80 data when analyzing the adequacy of existing public recreational facilities and when processing and reviewing proposed amendments to help determine the impact of such changes. In addition, FERC staff uses the FERC Form 80 data when conducting inspections of licensed projects and in evaluating compliance with various license conditions and in identifying recreational facilities at hydropower projects.

The data which FERC Form 80 requires are specified by Title 18 of the Code of Federal Regulations (CFR) under 18 CFR 8.11 and 141.14 (and are discussed at http://www.ferc.gov/docs-filing/forms.asp#80).

FERC collects the FERC Form 80 once every six years. The last collection was due on April 1, 2015, for data compiled during the 2014 calendar year. The next collection of the FERC Form 80 is due on April 1, 2021, with subsequent collections due every sixth year, for data compiled during the previous calendar year.

The Commission updated the format for the general instructions section of the form for improved readability. Specifically, FERC split a long paragraph into several smaller paragraphs.

FERC has attached to this notice the proposed format change to the general information section. FERC made no changes to the remainder of the instructions, form, and glossary and did not attach those to this notice.

Type of Respondent: Hydropower project licensees.

Estimate of Annual Burden: The Commission estimates the annual public reporting burden for the information collection as:

² The estimates for cost per response are derived using the 2016 FERC average salary plus benefits of $154,647/year (or $74.50/hour). Commission staff finds that the work done for this information collection is typically done by wage categories similar to those at FERC.

³ This figure is rounded from 66.8.

⁴ This figure is rounded from $223.50.

FERC Form 80: Licensed Hydropower Development Recreation Report
Number of respondents | Annual number of responses per respondent | Total number of responses | Average burden & cost per response ² | Total annual burden hours & total annual cost | Cost per respondent ($)
(1) | (2) | (1)*(2)=(3) | (4) | (3)*(4)=(5) | (5)÷(1)
400 | 0.167 | 67 ³ | 3 hrs.; $224 ⁴ | 201 hrs.; $14,974.50 | $37.44

FERC-550, [Oil Pipelines Rates—Tariffs Filings]

OMB Control No.: 1902-0089.

Abstract: FERC-550 is required to implement the sections of the Interstate Commerce Act (ICA) (49 U.S.C. 1, et seq., 49 App. U.S.C. 1-85). The Commission's regulatory jurisdiction over oil pipelines includes:

• Regulation of rates and practices of oil pipeline companies engaged in interstate transportation;

• establishment of equal service conditions to provide shippers with equal access to pipeline transportation;

• establishment of reasonable rates for transporting petroleum and petroleum products by pipeline.

The filing requirements for oil pipeline tariffs and rates ⁵ put in place by the FERC-550 data collection provide the Commission with the information it needs to analyze proposed tariffs, rates, fares, and charges of oil pipelines and other carriers in connection with the transportation of crude oil and petroleum products. The Commission uses this information to determine whether the proposed tariffs and rates are just and reasonable.

⁵ 18 CFR parts 341-348.

Type of Respondent: Oil Pipelines.

Estimate of Annual Burden: The Commission estimates the annual public reporting burden ⁶ and cost ⁷ for the FERC-550 information collection as follows:

⁶ The one-time burden imposed by Order 780 (issued May 16, 2013, in Docket No. RM12-15-000; 78 FR 32090, 5/29/2013) has been completed and is not included.

⁷ The cost is based on FERC's 2016 average cost (salary plus benefits) of $74.50/hour. The Commission staff believes that the industry's level and skill set is comparable to FERC.

⁸ The estimates for cost per response are derived using the FERC 2016 average salary plus benefits of $154,647/year (or $74.50/hour). Commission staff finds that the work done for this information collection is typically done by wage categories similar to those at FERC.

FERC-550: Oil Pipelines Rates—Tariffs Filings
| Number of respondents | Annual number of responses per respondent | Total number of responses | Average burden & cost per response ⁸ | Total annual burden hours & total annual cost | Cost per respondent ($)
| (1) | (2) | (1)*(2)=(3) | (4) | (3)*(4)=(5) | (5)÷(1)
FERC-550 | 208 | 3.68 | 765 | 7.815 hrs.; $582.22 | 5,978 hrs.; $445,396 | $2,141.33

FERC-549, [NGPA Title III Transactions and NGA Blanket Certificate Transaction]

OMB Control No.: 1902-0089.

Abstract: FERC-549 is required to implement the statutory provisions governed by Sections 311 and 312 of the Natural Gas Policy Act (NGPA) (15 U.S.C. 3371-3372) and Section 7 of the Natural Gas Act (NGA) (15 U.S.C. 717f). The reporting requirements for implementing these provisions are contained in 18 CFR part 284.

Transportation by Interstate Pipelines

In 18 CFR 284.102(e) the Commission requires interstate pipelines to obtain proper certification in order to ship natural gas on behalf of intrastate pipelines and local distribution companies (LDC). This certification consists of a letter from the intrastate pipeline or LDC authorizing the interstate pipeline to ship gas on its behalf. In addition, interstate pipelines must obtain from its shippers certifications including sufficient information to verify that their services qualify under this section.

Rates and Charges for Intrastate Pipelines

18 CFR 284.123(b) provides that intrastate gas pipeline companies file for Commission approval of rates for services performed in the interstate transportation of gas. An intrastate gas pipeline company may elect to use rates contained in one of its then effective transportation rate schedules on file with an appropriate state regulatory agency for intrastate service comparable to the interstate service or file proposed rates and supporting information showing the rates are cost based and are fair and equitable. It is the Commission policy that each pipeline must file at least every five years to ensure its rates are fair and equitable. Depending on the business process used, either 60 or 150 days after the application is filed, the rate is deemed to be fair and equitable unless the Commission either extends the time for action, institutes a proceeding or issues an order providing for rates it deems to be fair and equitable.

18 CFR 284.123(e) requires that within 30 days of commencement of new service any intrastate pipeline engaging in the transportation of gas in interstate commerce must file a statement that includes the interstate rates and a description of how the pipeline will engage in the transportation services, including operating conditions. If an intrastate gas pipeline company changes its operations or rates it must amend the statement on file with the Commission. Such amendment is to be filed not later than 30 days after commencement of the change in operations or change in rate election.

Code of Conduct

The Commission's regulations at 18 CFR 284.288 and 284.403 provide that applicable sellers of natural gas adhere to a code of conduct when making gas sales in order to protect the integrity of the market. As part of this code, the Commission imposes a record retention requirement on applicable sellers to “retain, for a period of five years, all data and information upon which it billed the prices it charged for natural gas it sold pursuant to its market based sales certificate or the prices it reported for use in price indices.” FERC uses these records to monitor the jurisdictional transportation activities and unbundled sales activities of interstate natural gas pipelines and blanket marketing certificate holders.

The record retention period of five years is necessary due to the importance of records related to any investigation of possible wrongdoing and related to assuring compliance with the codes of conduct and the integrity of the market. The requirement is necessary to ensure consistency with the rule prohibiting market manipulation (regulations adopted in Order No. 670, implementing the EPAct 2005 anti-manipulation provisions) and the generally applicable five-year statute of limitations where the Commission seeks civil penalties for violations of the anti-manipulation rules or other rules, regulations, or orders to which the price data may be relevant.

Failure to have this information available would mean the Commission is unable to perform its regulatory functions and to monitor and evaluate transactions and operations of interstate pipelines and blanket marketing certificate holders.

Market-Based Rates for Storage

In 2006 the Commission amended its regulations to establish criteria for obtaining market-based rates for storage services offered under 18 CFR 284.501-505. First, the Commission modified its market-power analysis to better reflect the competitive alternatives to storage. Second, pursuant to the Energy Policy Act of 2005, the Commission promulgated rules to implement section 4(f) of the Natural Gas Act, to permit underground natural gas storage service providers that are unable to show that they lack market power to negotiate market-based rates in circumstances where market-based rates are in the public interest and necessary to encourage the construction of the storage capacity in the area needing storage services, and where customers are adequately protected. These revisions are intended to facilitate the development of new natural gas storage capacity while protecting customers.

Type of Respondent: Gas pipelines.

Estimate of Annual Burden: The Commission estimates the annual public reporting burden for the information collection as:

⁹ 18 CFR 284.102(e).

¹⁰ The average hourly cost (salary plus benefits) is $128.94. The BLS wage category code is 23-0000. This figure is also taken from the Bureau of Labor Statistics, May 2015 figures at http://www.bls.gov/oes/current/naics2_22.htm.

¹¹ 284.123(b), (e).

¹² The estimates for cost per response are derived using the following formula:

Average Burden Hours per Response * $101.69 per Hour = Average Cost per Response. The hourly average of $101.69 assumes equal time is spent by an economist and lawyer. The average hourly cost (salary plus benefits) is: $74.43 for economists (occupation code 19-3011) and $128.94 for lawyers (occupation code 23-0000). (The figures are taken from the Bureau of Labor Statistics, May 2015 figures at http://www.bls.gov/oes/current/naics2_22.htm).

¹³ 18 CFR 284.288, 403.

¹⁴ 18 CFR 284.501-505.

FERC-549: NGPA Title III Transactions and NGA Blanket Certificate Transaction
| Number of respondents | Annual number of responses per respondent | Total number of responses | Average burden & cost per response | Total annual burden hours & total annual cost | Cost per respondent ($)
| (1) | (2) | (1)*(2)=(3) | (4) | (3)*(4)=(5) | (5)÷(1)
Transportation by Interstate Pipelines ⁹ | 75 | 2 | 150 | 3 hrs.; ¹⁰ $386.82 | 450 hrs.; $58,023 | $773.64
Rates and Charges for Intrastate Pipelines ¹¹ | 50 | 1 | 50 | 50 hrs.; $5,084.5 ¹² | 2,500 hrs.; $254,225 | $5,084.50
Code of Conduct (record-keeping) ¹³ | 222 | 1 | 222 | 1 hr.; $128.94 ¹⁰ | 222 hrs.; $28,624.68 | $128.94
Market-Based Rates ¹⁴ | 4 | 1 | 4 | 350 hrs.; $45,129 ¹⁰ | 1,400 hrs.; $180,516 | $45,129
TOTAL |  |  | 426 |  | 4,572 hrs.; $521,388.68 |

Dated: May 20, 2016.
Kimberly D. Bose,
Secretary.

[FR Doc. 2016-12411 Filed 5-25-16; 8:45 am]

BILLING CODE 6717-01-P